ENVIRONMENTAL PROTECTION AGENCY

40 CFR Part 52

[EPA-R01-OAR-2024-0193; FRL-12285-02-R1]

Air Plan Approval; Connecticut; State Implementation Plan Revisions Required by the 2015 Ozone NAAQS

AGENCY: Environmental Protection Agency (EPA).

ACTION: Final rule.

SUMMARY: The Environmental Protection Agency (EPA) is approving State Implementation Plan (SIP) revisions submitted by the State of Connecticut for the 2015 ozone National Ambient Air Quality Standard (NAAQS). These revisions certify the adequacy of the SIP to satisfy the nonattainment new source review permitting requirements of the Clean Air Act (CAA) for the reclassification of the Greater Connecticut area to moderate nonattainment for the 2015 ozone NAAQS, and certify the emission statement program satisfies CAA requirements for the initial nonattainment designations and the reclassification to moderate nonattainment for the 2015 ozone NAAQS. This action is being taken in accordance with the CAA.

DATES: This rule is effective on May 22, 2025.

ADDRESSES: EPA has established a docket for this action under Docket Identification No. EPA-R01-OAR-2024-0193. All documents in the docket are listed on the https://www.regulations.gov website. Although listed in the index, some information is not publicly available, i.e., CBI or other information whose disclosure is restricted by statute. Certain other material, such as copyrighted material, is not placed on the internet and will be publicly available only in hard copy form. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: John Creilson, Air Quality Branch, U.S. Environmental Protection Agency, EPA New England Regional Office, 5 Post Office Square, Suite 100 (mail code 5-MI), Boston, MA 02109-3912, telephone number (617) 918-1688, email creilson.john@epa.gov.

SUPPLEMENTARY INFORMATION: Throughout this document whenever “we,” “us,” or “our” is used, we mean EPA.

Table of Contents

I. Background and Purpose

a. NNSR Certification

b. Emission Statement Certification

II. Response to Comments

III. Final Action

IV. Statutory and Executive Order Reviews

I. Background and Purpose

On September 27, 2024 (89 FR 79186), the EPA published a notice of proposed rulemaking (NPRM) for the State of Connecticut proposing to approve two SIP revisions submitted by the State. Information about the proposed SIP revisions are as follows.

a. NNSR Certification

On May 22, 2023, the Connecticut Department of Energy and Environmental Protection (CT DEEP) submitted several revisions to its SIP. The first SIP revision certified the adequacy of the SIP to satisfy the nonattainment new source review (NNSR) permitting requirements of the CAA for the reclassification of the Greater Connecticut area to moderate nonattainment for the 2015 ozone National Ambient Air Quality Standards (NAAQS). Effective November 7, 2022, the EPA reclassified the Greater Connecticut nonattainment area to moderate nonattainment for the 2015 ozone NAAQS (see 87 FR 60897). Although CT DEEP had previously submitted, and EPA had approved, an NNSR certification for the 2015 ozone NAAQS initial classifications of marginal nonattainment for the Greater Connecticut nonattainment area (see 87 FR 38284, July 28, 2022), EPA's reclassification requires recertifying the adequacy of its NNSR program under the moderate nonattainment area requirements. The State certified that the versions of Regulations of Connecticut State Agencies (RCSA) sections 22a-174-1 and 22a-174-3a in the current SIP meet the Federal NNSR requirements for the Greater Connecticut ozone nonattainment area. In Connecticut's certification, the State provided a side-by-side comparison demonstrating the State's Rules are at least as stringent as EPA's NNSR permitting program requirements.

b. Emission Statement Certification

The second SIP revision certified that the emission statement program satisfies the requirements of CAA section 182(a)(3)(B) for the initial nonattainment designations and the reclassification to moderate nonattainment for the 2015 ozone NAAQS. CAA section 182(a)(3)(B) applies to stationary sources that emit nitrogen oxides (NOX) or volatile organic compounds (VOCs) in an ozone nonattainment area. The owner of each stationary source that emits NOX or VOCs must provide a statement each year of its NOX and VOC emissions, and the statement must be certified as to accuracy. Beginning with its initial emission statement program SIP filing on January 12, 1993 (approved on January 10, 1995; 60 FR 2524), Connecticut administered its emission statement program under the recordkeeping and reporting requirements of section 22a-174-4 of the RCSA. On November 17, 2022, Connecticut submitted a new regulation, RCSA section 22a-174-4a, “Source monitoring, record keeping and reporting,” to EPA as a SIP revision to replace the rule it had previously used to implement an emissions statement program (section 22a-174-4). This revision was approved into the SIP by final rule published July 8, 2024 (89 FR 55888), and associated correction notice published July 23, 2024 (89 FR 59620).

The rationale for EPA's proposed actions for these revisions is explained in the NPRM and will not be restated here.

II. Response to Comments

EPA received three comments during the comment period. The first comment generally supports the EPA's proposed action, although the commenter also discusses topics outside the scope of the action. The second comment focuses solely on irrelevant subjects. The third comment is disjointed and unclear. To the extent the commenter means to rely on any points made in the various references appearing in the comment, “EPA will generally not consider comments or comment contents located outside of the primary submission.” 89 FR 79186. In any event, none of the comments assert, or explain how, EPA approval of this action would be erroneous or otherwise be inconsistent with the CAA, applicable regulations, or other authorities. As such, the comments do not require further response to finalize the action as proposed.

III. Final Action

EPA is approving Connecticut's SIP revisions pertaining to NNSR Certification and Emission Statement Certification.

IV. Statutory and Executive Order Reviews

Under the Clean Air Act, the Administrator is required to approve a SIP submission that complies with the provisions of the Clean Air Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a significant regulatory action subject to review by the Office of Management and Budget under Executive Orders 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by June 23, 2025. Filing a petition for reconsideration by the Administrator of this final rule does not affect the finality of this action for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Nitrogen dioxide, Ozone, Reporting and recordkeeping requirements, Volatile organic compounds.

Dated: April 10, 2025.
Mark Sanborn,
Regional Administrator, EPA Region 1.

For the reasons stated in the preamble, the Environmental Protection Agency amends part 52 of chapter I, title 40 of the Code of Federal Regulations to read as follows:

PART 52—APPROVAL AND PROMULGATION OF IMPLEMENTATION PLANS

1. The authority citation for part 52 continues to read as follows:

Authority: 42 U.S.C. 7401 et seq.

Subpart H—Connecticut

2. Section 52.370 is amended by adding paragraph (c)(136) to read as follows:

§ 52.370 Identification of plan.

* * * * *

(c) * * *

(136) Revisions to the State Implementation Plan submitted by the Connecticut Department of Energy and Environmental Protection on May 22, 2023.

(i) [Reserved]

(ii) Additional materials. (A) Letter from the Connecticut Department of Energy and Environmental Protection, dated May 22, 2023, submitting a revision to the Connecticut State Implementation Plan.

(B) [Reserved]

3. Section 52.377 is amended by adding paragraph (x) to read as follows:

§ 52.377 Control strategy: Ozone.

* * * * *

(x) Approval. Revisions to the State Implementation Plan (SIP) submitted from the Connecticut Department of Energy and Environmental Protection dated May 22, 2023, to meet, in part, the requirements of the 2015 ozone NAAQS. These revisions:

(1) Certify the adequacy of the SIP to satisfy the nonattainment new source review permitting requirements of the Clean Air Act (CAA) for the reclassification of the Greater Connecticut area to moderate nonattainment for the 2015 ozone NAAQS; and

(2) certify the emission statement program satisfies the requirements of CAA section 182(a)(3)(B) for the initial nonattainment designations and the reclassification to moderate nonattainment for the 2015 ozone NAAQS.

[FR Doc. 2025-06610 Filed 4-21-25; 8:45 am]

BILLING CODE 6560-50-P